DEPARTMENT OF COMMERCE

National Oceanic and Atmospheric Administration

[I.D. 070803F]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Herring Oversight Committee and Advisory Panel for July and August, 2003 to consider actions affecting New England fisheries in the exclusive economic zone (EEZ). Recommendations from these groups will be brought to the full Council for formal consideration and action, if appropriate.

DATES: The meetings will be held on July 31 and August 1, 2003. See SUPPLEMENTARY INFORMATION for specific dates and times.

ADDRESSES: The meetings will be held at the Holiday Inn by the Bay, 88 Spring Street, Portland, ME 04101; telephone: (207) 775-2311.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Meeting Dates and Agendas

Thursday, July 31, 2003 at 9:30 a.m. - Joint Herring Oversight Committee, Advisory Panel and Plan Development Team (PDT) Meeting.

The panels will review the report from the Herring PDT meeting held June 26-27, 2003. They will discuss the recommendations from the Scientific and Statistical Committee meeting held June 19, 2003. They will also discuss the PDT recommendations for maximum sustainable yield, optimum yield, Area total allowable catches, and other fishery specifications. They will discuss options for adjustments to the boundaries of the herring management areas. Also on the agenda will be review and discussion of fishery data relevant to developing management alternatives for consideration in Amendment 1 to the Herring Fishery Management Plan (FMP) as well as continued development of alternatives for consideration in Amendment 1.

Friday, August 1, 2003 at 9 a.m. - Herring Oversight Committee Meeting.

The committee will continue development of alternatives for consideration in Amendment 1 to the Herring FMP.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 9, 2003.
Richard W. Surdi,
Acting Director, Office of Sustainable Fisheries, National Marine Fisheries Service.

[FR Doc. 03-17754 Filed 7-11-03; 8:45 am]

BILLING CODE 3510-22-S